DEPARTMENT OF EDUCATION

Submission for OMB Review; Comment Request

AGENCY: Department of Education.

ACTION: Correction notice/extension of comment period.

SUMMARY: On November 8, 2002, the Department of Education published two 30-day public comment period notices in the Federal Register (page 68110, column 1 and page 68110, column 3) for the information collections, “Federal PLUS Program Master Promissory Note,” and “Federal Direct PLUS Loan Applications and Master Promissory Note (PLUS MPN), and Endorser Addendum.” Because of a system software error, the contents of http://edicsweb.ed.gov were not updated to reflect the materials submitted to OMB. The Leader, Regulatory Management Group, Office of the Chief Information Officer, sincerely apologizes for any inconvenience caused by this error and hereby extends the public comment period through December 15, 2002.

While the contents of http://edicsweb.ed.gov have been updated to reflect the correct information, written requests for information should be addressed to Vivian Reese, Department of Education, 400 Maryland Avenue, SW., Room 4050, Regional Office Building 3, Washington, DC 20202-4651 or to the e-mail address Vivian.Reese@ed.gov. Requests may also be faxed to 202-708-9346. Please specify the complete title of the information collection when making your request. Comments regarding burden and/or the collection activity requirements should be directed to Lew Oleinick at Lew.Oleinick@ed.gov. Individuals who use a telecommunications device for the deaf (TDD) may call the Federal Information Relay Service (FIRS) at 1-800-877-8339.

FOR FURTHER INFORMATION CONTACT: Lew Oleinick at his e-mail address Lew.Oleinick@ed.gov.

Dated: November 14, 2002.
John D. Tressler,
Leader, Regulatory Management Group, Office of the Chief Information Officer.

[FR Doc. 02-29402 Filed 11-19-02; 8:45 am]

BILLING CODE 4000-01-P